DEPARTMENT OF ENERGY

Southeastern Power Administration

Jim Woodruff Project

AGENCY: Southeastern Power Administration, DOE.

ACTION: Notice of proposed rate adjustment.

SUMMARY: Southeastern proposes new rate schedules JW-1-H and JW-2-E to replace Wholesale Power Rate Schedules JW-1-G and JW-2-D for a five-year period from September 20, 2004 to September 19, 2009. Rate schedule JW-1-H is applicable to Southeastern power sold to existing preference customers in the Florida Power Corporation Service area. Rate schedule JW-2-E is applicable to Florida Power Corporation (Progress Energy).

Opportunities will be available for interested persons to review the present rates, the supporting studies and to participate in a hearing and to submit written comments. Southeastern will evaluate all comments received in this process.

DATES: Written comments are due on or before June 29, 2004. A public information and public comment forum will be held at the Doubletree Hotel, in Tallahassee, Florida, at 10:00 a.m. on May 6, 2004. Persons desiring to speak at the forum must notify Southeastern at least seven (7) days before the forum is scheduled so that a list of forum participants can be prepared. Others present may speak if time permits. Persons desiring to attend the forum should notify Southeastern at least seven (7) days before the forum is scheduled. If Southeastern has not been notified by close of business on April 29, 2004, that at least one person intends to be present at the forum, the forum will be canceled with no further notice.

ADDRESSES: Written comments should be submitted to: Charles Borchardt, Administrator, Southeastern Power Administration, Department of Energy, 1166 Athens Tech Road, Elberton, Georgia 30635-6711. The public comment Forum will meet at the Doubletree Hotel Tallahassee, 105 South Adams Street, Tallahassee, Florida, 32301 Phone (850) 224-5000.

FOR FURTHER INFORMATION CONTACT: Leon Jourolmon, Assistant Administrator, Finance and Marketing Division, Southeastern Power Administration, Department of Energy, 1166 Athens Tech Road, Elberton, Georgia 30635-6711, (706) 213-3800.

SUPPLEMENTARY INFORMATION: Existing rate schedules are supported by a July 2002 Repayment Study and other supporting data contained in FERC Docket No. EF02-3031-000. A repayment study prepared in March 2004 shows that the existing rates are not adequate to meet repayment criteria. A revised repayment study with a revenue increase of $2,182,000, or 35.5 percent, for Fiscal Years 2004 to 2007 and $190,000, or 3.1 percent, for fiscal year 2008 through the end of the study, demonstrates that all costs are paid within their repayment life. The increase is primarily due to purchased power expenses associated with higher support capacity requirements and Southeastern's obligation to repay all of the original investment and associated interest for the project within the time period covered by the proposed repayment study. Southeastern is proposing to raise rates to recover this additional revenue.

In the proposed rate schedule JW-1-H, which is available to preference customers, the capacity charge has been raised from $5.79 per kilowatt per month to $7.75 per kilowatt per month for Fiscal Years 2005, 2006, and 2007, and $5.87 in Fiscal Year 2008 and thereafter. The energy charge has been increased from 16.25 mills per kilowatt-hour to 22.25 mills per kilowatt-hour for Fiscal Years 2005, 2006, and 2007, and 16.85 mills per kilowatt-hour in Fiscal Years 2008 and thereafter. Rate schedule JW-2-E, available to Florida Power Corporation, raises the rate from 70 percent of the Company's fuel cost to 95 percent of the Company's fuel cost for Fiscal Years 2005, 2006, and 2007, and 75 percent for Fiscal Year 2008 and thereafter.

The studies are available for examination at 1166 Athens Tech Road, Elberton, Georgia, 30635-6711, as is the March 2004 repayment study and the proposed Rate Schedules.

Dated: March 18, 2004
Charles A. Borchardt,
Administrator.

[FR Doc. 04-7203 Filed 3-30-04; 8:45 am]

BILLING CODE 6450-01-P